ENVIRONMENTAL PROTECTION AGENCY

40 CFR Part 52

[WV100-6030; FRL-7861-3]

Approval and Promulgation of Air Quality Implementation Plans; West Virginia; Revised Format of 40 CFR Part 52 for Materials Being Incorporated by Reference

AGENCY: Environmental Protection Agency (EPA).

ACTION: Final rule; notice of administrative change.

SUMMARY: EPA is revising the format for materials submitted by West Virginia that are incorporated by reference (IBR) into its State implementation plan (SIP). The regulations affected by this format change have all been previously submitted by West Virginia and approved by EPA. This format revision will primarily affect the “Identification of plan” section, as well as the format of the SIP materials that will be available for public inspection at the National Archives and Records Administration (NARA), the Air and Radiation Docket and Information Center located at EPA Headquarters in Washington, DC, and the EPA Regional Office. EPA is also adding a table in the “Identification of plan” section which summarizes the approval actions that EPA has taken on the non-regulatory and quasi-regulatory portions of the West Virginia SIP.

EFFECTIVE DATE: This final rule is effective on February 10, 2005.

ADDRESSES: SIP materials which are incorporated by reference into 40 CFR part 52 are available for inspection at the following locations: Air Protection Division, U.S. Environmental Protection Agency, Region III, 1650 Arch Street, Philadelphia, Pennsylvania 19103; the Air and Radiation Docket and Information Center, U.S. Environmental Protection Agency, 1301 Constitution Avenue, NW., Room B108, Washington, DC 20460; or the National Archives and Records Administration (NARA). For information on the availability of this material at NARA, call 202-741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION: The supplementary information is organized in the following order:

I. Background

What a SIP is.

How EPA enforces SIPs.

How the State and EPA updates the SIP.

How EPA compiles the SIPs.

How EPA organizes the SIP compilation.

Where you can find a copy of the SIP compilation.

The format of the new Identification of Plan section.

When a SIP revision becomes federally enforceable.

The historical record of SIP revision approvals.

II. What EPA Is Doing in This Action

III. Statutory and Executive Order Reviews

I. Background

What a SIP is—Each state has a SIP containing the control measures and strategies used to attain and maintain the national ambient air quality standards (NAAQS). The SIP is extensive, containing such elements as air pollution control regulations, emission inventories, monitoring network, attainment demonstrations, and enforcement mechanisms.

How EPA enforces SIPs—Each state must formally adopt the control measures and strategies in the SIP after the public has had an opportunity to comment on them. They are then submitted to EPA as SIP revisions upon which EPA must formally act. Once these control measures and strategies are approved by EPA, after notice and comment, they are incorporated into the Federally approved SIP and are identified in part 52 (Approval and Promulgation of Implementation Plans), title 40 of the Code of Federal Regulations (40 CFR part 52). The actual state regulations approved by EPA are not reproduced in their entirety in 40 CFR part 52, but are “incorporated by reference” (IBR'd) which means that EPA has approved a given state regulation with a specific effective date. This format allows both EPA and the public to know which measures are contained in a given SIP and ensures that the state is enforcing the regulations. It also allows EPA and the public to take enforcement action, should a state not enforce its SIP-approved regulations.

How the State and EPA updates the SIP—The SIP is a living document which the state can revise as necessary to address the unique air pollution problems in the state. Therefore, EPA must, from time to time, take action on SIP revisions containing new and/or revised regulations in order to make them part of the SIP. On May 22, 1997 (62 FR 27968), EPA revised the procedures for incorporating by reference Federally-approved SIPs, as a result of consultations between EPA and the Office of the Federal Register (OFR).

EPA began the process of developing: (1) A revised SIP document for each state that would be IBR'd under the provisions of Title 40 CFR part 51; (2) a revised mechanism for announcing EPA approval of revisions to an applicable SIP and updating both the IBR document and the CFR; and (3) a revised format of the “Identification of plan” sections for each applicable subpart to reflect these revised IBR procedures. The description of the revised SIP document, IBR procedures, and “Identification of plan” format are discussed in further detail in the May 22, 1997, Federal Register document.

How EPA compiles the SIPs—The Federally-approved regulations, source-specific permits, and nonregulatory provisions (entirely or portions of) submitted by each state agency have been compiled by EPA into a “SIP compilation.” The SIP compilation contains the updated regulations, source-specific permits, and nonregulatory provisions approved by EPA through previous rulemaking actions in the Federal Register.

How EPA organizes the SIP compilation—Each compilation contains three parts. Part one contains the regulations, part two contains the source-specific requirements that have been approved as part of the SIP, and part three contains nonregulatory provisions that have been EPA approved. Each part consists of a table of identifying information for each SIP-approved regulation, each SIP-approved source-specific permit, and each nonregulatory SIP provision. In this action, EPA is publishing the tables summarizing the applicable SIP requirements for West Virginia. The EPA Regional Offices have the primary responsibility for updating the compilations and ensuring their accuracy.

Where you can find a copy of the SIP compilation—EPA Region III developed and will maintain the compilation for West Virginia. A copy of the full text of West Virginia's regulatory and source-specific SIP compilation will also be maintained at NARA and EPA's Air Docket and Information Center.

The format of the new Identification of Plan section—In order to better serve the public, EPA revised the organization of the “Identification of plan” section and included additional information to clarify the enforceable elements of the SIP. The revised Identification of plan section contains five subsections:

1. Purpose and scope.

2. Incorporation by reference.

3. EPA-approved regulations.

4. EPA-approved source-specific permits.

5. EPA-approved nonregulatory and quasi-regulatory provisions such as air quality attainment plans, rate of progress plans, maintenance plans, monitoring networks, and small business assistance programs.

When a SIP revision becomes federally enforceable—All revisions to the applicable SIP become federally enforceable as of the effective date of the revisions to paragraphs (c), (d), or (e) of the applicable Identification of Plan section found in each subpart of 40 CFR part 52. In general, SIP revisions become effective 30 to 60 days after publication of EPA's SIP approval action in the Federal Register. In specific cases, a SIP revision action may become effective less than 30 days or greater than 60 days after the Federal Register publication date. In order to determine the effective date for a specific West Virginia SIP provision that is listed in paragraph 52.2520(c),(d), or (e) charts, consult the Federal Register date, volume and page cited in the “EPA approval date” column for that particular provision.

The historical record of SIP revision approvals—To facilitate enforcement of previously approved SIP provisions and provide a smooth transition to the new SIP processing system, EPA retains the original Identification of plan section, previously appearing in the CFR as the first or second section of part 52 for each state subpart. After an initial two-year period, EPA will review its experience with the new system and enforceability of previously approved SIP measures and will decide whether or not to retain the Identification of plan appendices for some further period.

II. What EPA Is Doing in This Action

Today's rule constitutes a “housekeeping” exercise to ensure that all revisions to the state programs that have occurred are accurately reflected in 40 CFR part 52. State SIP revisions are controlled by EPA regulations at 40 CFR part 51. When EPA receives a formal SIP revision request, the Agency must publish the proposed revision in the Federal Register and provide for public comment before approval.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations.

III. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the National Government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules are discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply codifies provisions which are already in effect as a matter of law in Federal and approved State programs. 5 U.S.C. 808(2). As stated previously, EPA has made such a good cause finding, including the reasons therefore, and established an effective date of February 10, 2005. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the West Virginia SIP compilations had previously afforded interested parties the opportunity to file a petition for judicial review in the United States Court of Appeals for the appropriate circuit within 60 days of such rulemaking action. Thus, EPA sees no need in this action to reopen the 60-day period for filing such petitions for judicial review for these “Identification of plan” reorganization actions for West Virginia.

List of Subjects in 40 CFR Part 52

Environmental protection, Air pollution control, Carbon monoxide, Incorporation by reference, Intergovernmental relations, Nitrogen dioxide, Ozone, Particulate matter, Reporting and recordkeeping requirements, Sulfur oxides, Volatile organic compounds.

Dated: January 5, 2005.
Richard Kampf,
Acting Regional Administrator, Region III.

40 CFR part 52 is amended as follows:

PART 52—[AMENDED]

1. The authority citation for 40 CFR part 52 continues to read as follows:

Authority: 42 U.S.C. 7401 et seq.

Subpart XX—West Virginia

2. Section 52.2520 is redesignated as § 52.2565 and the heading and paragraph (a) are revised to read as follows:

§ 52.2565 Original identification of plan section.

(a) This section identifies the original “Air Implementation Plan for the State of West Virginia” and all revisions submitted by West Virginia that were federally approved prior to December 1, 2004.

* * * * *

3. A new Section 52.2520 is added to read as follows:

§ 52.2520 Identification of plan.

(a) Purpose and scope. This section sets forth the applicable State implementation plan for West Virginia under section 110 of the Clean Air Act, 42 U.S.C. 7410, and 40 CFR part 51 to meet national ambient air quality standards.

(b) Incorporation by reference.

(1) Material listed as incorporated by reference in paragraphs (c) and (d) was approved for incorporation by reference by the Director of the Federal Register in accordance with 5 U.S.C. 552(a) and 1 CFR part 51. Material incorporated as it exists on the date of the approval, and notice of any change in the material will be published in the Federal Register. Entries in paragraphs (c) and (d) of this section with EPA approval dates on or after December 1, 2004, will be incorporated by reference in the next update to the SIP compilation.

(2) EPA Region III certifies that the rules/regulations provided by EPA at the addresses in paragraph (b)(3) of this section are an exact duplicate of the officially promulgated State rules/regulations which have been approved as part of the State implementation plan as of December 1, 2004.

(3) Copies of the materials incorporated by reference may be inspected at the EPA Region III Office at 1650 Arch Street, Philadelphia, PA 19103; the EPA, Air and Radiation Docket and Information Center, Air Docket (6102), 1301 Constitution Avenue, NW., Room B108, Washington, DC 20460; or at the National Archives and Records Administration (NARA). For information on the availability of this material at NARA, call 202-741-6030, or go to: http://www.archives.gov/federal_register/code_of_federal_regulations/ibr_locations.html.

(c) EPA-Approved Regulations.

EPA-Approved Regulations in the West Virginia SIP
State citation [Chapter 16-20 or 45 CSR] | Title/subject | State effective date | EPA approval date | Additional explanation/citation at 40 CFR 52.2565
[45 CSR] Series 1 NOX Budget Trading Program as a Means of Control and Reduction of Nitrogen Oxides
Section 45-1-1 | General | 5/1/02 | 5/10/02 67 FR 37133 | (c)(46)
Section 45-1-2 | Definitions | 5/1/02 | 5/10/02 67 FR 37133 | (c)(46)
Section 45-1-3 | Measurements, Abbreviations and Acronyms | 5/1/02 | 5/10/02 67 FR 37133 | (c)(46)
Section 45-1-4 | NOX Budget Trading Program Applicability | 5/1/02 | 5/10/02 67 FR 37133 | (c)(46)
Section 45-1-5 | Retired Unit Exemption | 5/1/02 | 5/10/02 67 FR 37133 | (c)(46)
Section 45-1-6 | NOX Budget Trading Program Standard Requirements | 5/1/02 | 5/10/02 67 FR 37133 | (c)(46)
Section 45-1-7 | Computation of Time | 5/1/02 | 5/10/02 67 FR 37133 | (c)(46)
Section 45-1-10 | Authorization and Responsibilities of the NOX Authorized Account Representative | 5/1/02 | 5/10/02 67 FR 37133 | (c)(46)
Section 45-1-11 | Alternate NOX Authorized Account Representative | 5/1/02 | 5/10/02 67 FR 37133 | (c)(46)
Section 45-1-12 | Changing the NOX Authorized Account Representative and the Alternate NOX Authorized Account Representative; Changes in Owners and Operators | 5/1/02 | 5/10/02 67 FR 37133 | (c)(46)
Section 45-1-13 | Account Certificate of Representation | 5/1/02 | 5/10/02 67 FR 37133 | (c)(46)
Section 45-1-14 | Objections Concerning the NOX Authorized Account Representative | 5/1/02 | 5/10/02 67 FR 37133 | (c)(46)
Section 45-1-20 | General NOX Budget Trading Program Permit Requirements | 5/1/02 | 5/10/02 67 FR 37133 | (c)(46)
Section 45-1-21 | NOX Budget Permit Applications | 5/1/02 | 5/10/02 67 FR 37133 | (c)(46)
Section 45-1-22 | Information Requirements for NOX Budget Permit Applications | 5/1/02 | 5/10/02 67 FR 37133 | (c)(46)
Section 45-1-23 | NOX Budget Permit Contents | 5/1/02 | 5/10/02 67 FR 37133 | (c)(46)
Section 44-1-24 | NOX Budget Permit Revisions | 5/1/02 | 5/10/02 67 FR 37133 | (c)(46)
Section 45-1-30 | Compliance Certification Report | 5/1/02 | 5/10/02 67 FR 37133 | (c)(46)
Section 45-1-31 | Secretary's and Administrator's Action on Compliance Certifications | 5/1/02 | 5/10/02 67 FR 37133 | (c)(46)
Section 45-1-40 | State NOX Trading Program Budget | 5/1/02 | 5/10/02 67 FR 37133 | (c)(46)
Section 45-1-41 | Timing Requirements for State NOX Allowance Allocations | 5/1/02 | 5/10/02 67 FR 37133 | (c)(46)
Section 45-1-42 | State NOX Allowance Allocations | 5/1/02 | 5/10/02 67 FR 37133 | (c)(46)
Section 45-1-43 | Compliance Supplement Pool | 5/1/02 | 5/10/02 67 FR 37133 | (c)(46)
Section 45-1-50 | NOX Allowance Tracking System Accounts | 5/1/02 | 5/10/02 67 FR 37133 | (c)(46)
Section 45-1-51 | Establishment of Accounts | 5/1/02 | 5/10/02 67 FR 37133 | (c)(46)
Section 45-1-52 | NOX Allowance Tracking System Responsibilities of NOX Authorized Account Representative | 5/1/02 | 5/10/02 67 FR 37133 | (c)(46)
Section 45-1-53 | Recordation of NOX Allowance Allocations | 5/1/02 | 5/10/02 67 FR 37133 | (c)(46)
Section 45-1-54 | Compliance | 5/1/02 | 5/10/02 67 FR 37133 | (c)(46)
Section 45-1-55 | NOX Allowance Banking | 5/1/02 | 5/10/02 67 FR 37133 | (c)(46)
Section 45-1-56 | Account Error | 5/1/02 | 5/10/02 67 FR 37133 | (c)(46)
Section 45-1-57 | Closing of General Accounts | 5/1/02 | 5/10/02 67 FR 37133 | (c)(46)
Section 45-1-60 | Submission of NOX Allowance Transfers | 5/1/02 | 5/10/02 67 FR 37133 | (c)(46)
Section 45-1-61 | Allowance Transfer Recordation | 5/1/02 | 5/10/02 67 FR 37133 | (c)(46)
Section 45-1-62 | Notification | 5/1/02 | 5/10/02 67 FR 37133 | (c)(46)
Section 45-1-70 | General Monitoring Requirements | 5/1/02 | 5/10/02 67 FR 37133 | (c)(46)
Section 45-1-71 | Initial Certification and Recertification Procedures | 5/1/02 | 5/10/02 67 FR 37133 | (c)(46)
Section 45-1-72 | Out of Control Periods | 5/1/02 | 5/10/02 67 FR 37133 | (c)(46)
Section 45-1-73 | Notifications | 5/1/02 | 5/10/02 67 FR 37133 | (c)(46)
Section 45-1-74 | Recordkeeping and Reporting | 5/1/02 | 5/10/02 67 FR 37133 | (c)(46)
Section 45-1-75 | Petitions | 5/1/02 | 5/10/02 67 FR 37133 | (c)(46)
Section 45-1-76 | Additional Requirements to Provide Heat Input Data | 5/1/02 | 5/10/02 67 FR 37133 | (c)(46)
Section 45-1-80 | Individual Opt-in Applicability | 5/1/02 | 5/10/02 67 FR 37133 | (c)(46)
Section 45-1-81 | Opt-in General Requirements | 5/1/02 | 5/10/02 67 FR 37133 | (c)(46)
Section 45-1-82 | Opt-in NOX Authorized Account Representative | 5/1/02 | 5/10/02 67 FR 37133 | (c)(46)
Section 45-1-83 | Applying for NOX Budget Opt-in Permit | 5/1/02 | 5/10/02 67 FR 37133 | (c)(46)
Section 45-1-84 | Opt-in Process | 5/1/02 | 5/10/02 67 FR 37133 | (c)(46)
Section 45-1-85 | NOX Budget Opt-in Permit Contents | 5/1/02 | 5/10/02 67 FR 37133 | (c)(46)
Section 45-1-86 | Withdrawal from NOX Budget Trading Program | 5/1/02 | 5/10/02 67 FR 37133 | (c)(46)
Section 45-1-87 | Change in Regulatory Status | 5/1/02 | 5/10/02 67 FR 37133 | (c)(46)
Section 45-1-88 | NOX Allowance Allocations to Opt-in Units | 5/1/02 | 5/10/02 67 FR 37133 | (c)(46)
Section 45-1-100 | Requirements for Emissions of NOX from Cement Manufacturing Kilns | 5/1/02 | 5/10/02 67 FR 37133 | (c)(46)
[45 CSR] Series 2 To Prevent and Control Particulate Air Pollution From Combustion of Fuel in Indirect Heat Exchangers
Section 45-2-1 | General | 8/31/00 | 8/11/03 68 FR 47473 | (c)(56)
Section 45-2-2 | Definitions | 8/31/00 | 8/11/03 68 FR 47473 | (c)(56)
Section 45-2-3 | Visible Emissions of Smoke and/or Particulate Matter Prohibited and Standards of Measurement | 8/31/00 | 8/11/03 68 FR 47473 | (c)(56)
Section 45-2-4 | Weight Emission Standards | 8/31/00 | 8/11/03 68 FR 47473 | (c)(56)
Section 45-2-5 | Control of Fugitive Particulate Matter | 8/31/00 | 8/11/03 68 FR 47473 | (c)(56)
Section 45-2-6 | Registration | 8/31/00 | 8/11/03 68 FR 47473 | (c)(56)
Section 45-2-7 | Permits | 8/31/00 | 8/11/03 68 FR 47473 | (c)(56)
Section 45-2-8 | Testing, Monitoring, Recordkeeping, and Reporting | 8/31/00 | 8/11/03 68 FR 47473 | (c)(56)
Section 45-2-9 | Start-ups, Shutdowns, and Malfunctions | 8/31/00 | 8/11/03 68 FR 47473 | (c)(56)
Section 45-2-10 | Variances | 8/31/00 | 8/11/03 68 FR 47473 | (c)(56)
Section 45-2-11 | Exemptions | 8/31/00 | 8/11/03 68 FR 47473 | (c)(56)
Section 45-2-12 | Inconsistency Between Rules | 8/31/00 | 8/11/03 68 FR 47473 | (c)(56)
Table 45-2A | [Total Allowable Particulate Matter Emission Rate for All Typce ‘c’ Fule Burning Units Located at One Plant] | 8/31/00 | 8/11/03 68 FR 47473 | (c)(56)
45CSR2 Appendix Compliance Test Procedures for 45CSR2
Section 1 | General | 8/31/00 | 8/11/03 68 FR 47473 | (c)(56)
Section 3 | Symbols | 8/31/00 | 8/11/03 68 FR 47473 | (c)(56)
Section 4 | Adoption of Test Methods | 8/31/00 | 8/11/03 68 FR 47473 | (c)(56)
Section 5 | Unit Load and Fuel Quality Requirements | 8/31/00 | 8/11/03 68 FR 47473 | (c)(56)
Section 6 | Minor Exceptions | 8/31/00 | 8/11/03 68 FR 47473 | (c)(56)
Section 7 | Pretest and Post Test General Requirements | 8/31/00 | 8/11/03 68 FR 47473 | (c)(56)
Section 8 | Heat Input Data Measurements | 8/31/00 | 8/11/03 68 FR 47473 | (c)(56)
Section 9 | Computations and Data Analysis | 8/31/00 | 8/11/03 68 FR 47473 | (c)(56)
[45 CSR] Series 3 To Prevent and Control Air Pollution From the Operation of Hot Mix Asphalt Plants
Section 45-3-1 | General | 8/31/00 | 10/11/02 67 FR 63270 | (c)(48)
Section 45-3-2 | Definitions | 8/31/00 | 10/11/02 67 FR 63270 | (c)(48)
Section 45-3-3 | Emission of Smoke and/or Particulate Matter Prohibited and Standards of Measurement—Visible | 8/31/00 | 10/11/02 67 FR 63270 | (c)(48)
Section 45-3-4 | Emission of Smoke and/or Particulate Matter Prohibited and Standards of Measurement—Weight Emissions | 8/31/00 | 10/11/02 67 FR 63270 | (c)(48)
Section 45-3-5 | Permits | 8/31/00 | 10/11/02 67 FR 63270 | (c)(48)
Section 45-3-6 | Reports and Testing | 8/31/00 | 10/11/02 67 FR 63270 | (c)(48)
Section 45-3-7 | Variance | 8/31/00 | 10/11/02 67 FR 63270 | (c)(48)
Section 45-3-8 | Circumvention | 8/31/00 | 10/11/02 67 FR 63270 | (c)(48)
Section 45-3-9 | Inconsistency Between Rules | 8/31/00 | 10/11/02 67 FR 63270 | (c)(48)
[45 CSR] Series 5 To Prevent and Control Air Pollution From the Operation of Coal Preparation Plants, Coal Handling Operations, and Coal Refuse Disposal Areas
Section 45-5-1 | General | 8/31/00 | 10/07/02 67 FR 63279 | (c)(47)
Section 45-5-2 | Definitions | 8/31/00 | 10/07/02 67 FR 63279 | (c)(47)
Section 45-5-3 | Emission of Particulate Matter Prohibited and Standards of Measurement | 8/31/00 | 10/7/02 67 FR 62379 | (c)(47)
Section 45-5-4 | Control and Prohibition of Particulate Emissions from Coal Thermal Drying Operations of a Coal Preparation Plant | 8/31/00 | 10/7/02 67 FR 62379 | (c)(47)
Section 45-5-5 | Control and Prohibition of Particulate Emissions From an Air Table Operation of a Coal Preparation Plant | 10/22/93 | 7/13/99 64 FR 37681 | (c)(42)
Section 45-5-6 | Control and Prohibition of Fugitive Dust Emissions From Coal Handling Operations and Preparation Plants | 8/31/00 | 10/7/02 67 FR 62379 | (c)(47)
Section 45-5-7 | Standards for Coal Refuse Disposal Areas | 8/31/00 | 10/7/02 67 FR 62379 | (c)(47)
Section 45-5-8 | Burning coal Refuse Disposal Areas | 8/31/00 | 10/7/02 67 FR 62379 | (c)(47)
Section 45-5-9 | Monitoring of Operations | 8/31/00 | 10/7/02 67 FR 62379 | (c)(47)
Section 45-5-10 | Construction, Modification, and Relocation Permits | 8/31/00 | 10/7/02 67 FR 62379 | (c)(47)
Section 45-5-11 | Operation Permits | 8/31/00 | 10/7/02 67 FR 62379 | (c)(47)
Section 45-5-12 | Reporting and Testing | 8/31/00 | 10/7/02 67 FR 62379 | (c)(47)
Section 45-5-13 | Variance | 8/31/00 | 10/7/02 67 FR 62379 | (c)(47)
Section 45-5-14 | Transfer of Permits | 8/31/00 | 10/7/02 67 FR 62379 | (c)(47)
Section 45-5-15 | Inconsistency Between Rules | 8/31/00 | 10/7/02 67 FR 62379 | (c)(47)
Appendix | Particulate Emission Limitations and Operational Monitoring Requirements Applicable to Thermal Dryers Installed Before October 24, 1974 | 8/31/00 | 10/7/02 67 FR 62379 | (c)(47)
[45 CSR] Series 6 To Prevent and Control Air Pollution From Combustion of Refuse
Section 45-6-1 | General | 7/1/01 | 2/10/03 68 FR 6627 | (c)(51)
Section 45-6-2 | Definitions | 7/1/01 | 2/10/03 68 FR 6627 | (c)(51)
Section 45-6-3 | Open Burning Prohibited | 7/1/01 | 2/10/03 68 FR 6627 | (c)(51)
Section 45-6-4 | Emission Standards for Incinerators and Incineration | 7/1/01 | 2/10/03 68 FR 6627 | (c)(51)
Section 45-6-5 | Registration | 7/1/01 | 2/10/03 68 FR 6627 | (c)(51)
Section 45-6-6 | Permits | 7/1/01 | 2/10/03 68 FR 6627 | (c)(51)
Section 45-6-7 | Reports and Testing | 7/1/01 | 2/10/03 68 FR 6627 | (c)(51)
Section 45-6-8 | Variances | 7/1/01 | 2/10/03 68 FR 6627 | (c)(51)
Section 45-6-9 | Emergencies and Natural Disasters | 7/1/01 | 2/10/03 68 FR 6627 | (c)(51)
Section 45-6-10 | Effect of the Rule | 7/1/01 | 2/10/03 68 FR 6627 | (c)(51)
Section 45-6-11 | Inconsistency Between Rules | 7/1/01 | 2/10/03 68 FR 6627 | (c)(51)
[45 CSR] Series 7 To Prevent and Control Particulate Matter Air Pollution From Manufacturing Process Operations
Section 45-7-1 | General | 8/31/00 | 06/03/03 68 FR 33010 | (c)(55)
Section 45-7-2 | Definitions | 08/31/00 | 06/03/03 68 FR 33010 | (c)(55)
Section 45-7-3 | Emission of Smoke and/or Particulate Matter Prohibited and Standards of Measurement | 08/31/00 | 06/03/03 68 FR 33010 | (c)(55)
Section 45-7-4 | Control and Prohibition of Particulate Emissions by Weight from Manufacturing Process Source Operations | 08/31/00 | 06/03/03 68 FR 33010 | (c)(55)
Section 45-7-5 | Control of Fugitive Particulate Matter | 08/31/00 | 06/03/03 68 FR 33010 | (c)(55)
Section 45-7-6 | Registration | 08/31/00 | 06/03/03 68 FR 33010 | (c)(55)
Section 45-7-7 | Permits | 08/31/00 | 06/03/03 68 FR 33010 | (c)(55)
Section 45-7-8 | Reporting and Testing | 08/31/00 | 06/03/03 68 FR 33010 | (c)(55)
Section 45-7-9 | Variance | 08/31/00 | 06/03/03 68 FR 33010 | (c)(55)
Section 45-7-10 | Exemptions | 08/31/00 | 06/03/03 68 FR 33010 | (c)(55)
Section 45-7-11 | Alternative Emission Limits for Duplicate Source Operations | 08/31/00 | 06/03/03 68 FR 33010 | (c)(55)
Section 45-7-12 | Inconsistency Between Rules | 08/31/00 | 06/03/03 68 FR 33010 | (c)(55)
TABLE 45-7A TABLE 45-7B | [Maximum Allowable Emission Rates From Sources Governed by 45 CFR Series 7] | 08/31/00 | 06/03/03 68 FR 33010 | (c)(55)
[Ch. 16-20] TP-4 Compliance Test Procedures for Regulation VII—“To Prevent and Control Particulate Air Pollution From Manufacturing Process Operations”
Section 1 | General | 2/23/84 | 6/28/85 45 FR 26732 | no (c) number;
Section 2 | Visible Emission Test Procedure | 2/23/84 | 6/28/85 45 FR 26732 | no (c) number;
Section 3 | Mass Emission Test Procedures | 2/23/84 | 6/28/85 45 FR 26732 | no (c) number;
[45 CSR] Series 8 Ambient Air Quality Standards for Sulfur Oxides and Particulate Matter
Section 45-8-1 | General | 4/25/90 | 6/28/93 58 FR34526 | (c)(28)
Section 45-8-2 | Definitions | 4/25/90 | 6/28/93 58 FR34526 | (c)(28)
Section 45-8-3 | Ambient Air Quality Standards | 4/25/90 | 6/28/93 58 FR34526 | (c)(28)
Section 45-8-4 | Methods of Measurement | 4/25/90 | 6/28/93 58 FR34526 | (c)(28)
Section 45-8-5 | Inconsistency Between Regulations | 4/25/90 | 6/28/93 58 FR34526 | (c)(28)
[45 CSR] Series 9—Ambient Air Quality Standards for Carbon Monoxide and Ozone
Section 45-9-1 | General | 6/1/00 | 10/7/02 67 FR 62381 | (c)(50)
Section 45-9-2 | Anti-Degradation Policy | 6/1/00 | 10/7/02 67 FR 62381 | (c)(50)
Section 45-9-3 | Definitions | 6/1/00 | 10/7/02 67 FR 62381 | (c)(50)
Section 45-9-4 | Ambient Air Quality Standards | 6/1/00 | 10/7/02 67 FR 62381 | (c)(50)
Section 45-9-5 | Methods of Measurement | 6/1/00 | 10/7/02 67 FR 62381 | (c)(50)
[45 CSR] Series 10—To Prevent and Control Air Pollution from The Emission of Sulfur Oxides
Section 45-10-1 | General | 8/31/00 | 6/3/03 68 FR 33002 | (c)(53)
Section 45-10-2 | Definitions | 8/31/00 | 6/3/03 68 FR 33002 | (c)(53)
Section 45-10-3 | Sulfur Dioxide Weight Emission Standards for Fuel Burning Units | 8/31/00 | 6/3/03 68 FR 33002 | (c)(53)
Section 45-10-4 | Standards for Manufacturing Process Source Operations | 8/31/00 | 6/3/03 68 FR 33002 | (c)(53)
Section 45-10-5 | Combustion of Refinery or Process Gas Streams | 8/31/00 | 6/3/03 68 FR 33002 | (c)(53)
Section 45-10-6 | Registration | 8/31/00 | 6/3/03 68 FR 33002 | (c)(53)
Section 45-10-7 | Permits | 8/31/00 | 6/3/03 68 FR 33002 | (c)(53)
Section 45-10-8 | Testing, Monitoring, Recordkeeping and Reporting | 8/31/00 | 6/3/03 68 FR 33002 | (c)(53)
Section 45-10-9 | Variance | 8/31/00 | 6/3/03 68 FR 33002 | (c)(53)
Section 45-10-10 | Exemptions and Recommendations | 8/31/00 | 6/3/03 68 FR 33002 | (c)(53)
Section 45-10-11 | Circumvention | 8/31/00 | 6/3/03 68 FR 33002 | (c)(53)
Section 45-10-12 | Inconsistency Between Rules | 8/31/00 | 6/3/03 68 FR 33002 | (c)(53)
TABLE 45-10A | [Priority Classifications] | 8/31/00 | 6/3/03 68 FR 33002 | (c)(53)
TABLE 45-10B | [Allowable Percent Sulfur Content of Fuels] | 8/31/00 | 6/3/03 68 FR 33002 | (c)(53)
[45 CSR] Series 11 Prevention of Air Pollution Emergency Episodes
Section 45-11-1 | General | 4/25/90 | 6/28/93 58 FR34526 | (c)(28)
Section 45-11-2 | Definitions | 4/25/90 | 6/28/93 58 FR34526 | (c)(28)
Section 45-11-3 | Episode Criteria | 4/25/90 | 6/28/93 58 FR34526 | (c)(28)
Section 45-11-4 | Methods of Measurement | 4/25/90 | 6/28/93 58 FR34526 | (c)(28)
Section 45-11-5 | Preplanned Reduction Strategies | 4/25/90 | 6/28/93 58 FR34526 | (c)(28)
Section 45-11-6 | Emission Reduction Plans | 4/25/90 | 6/28/93 58 FR34526 | (c)(28)
TABLE I | Emission Reduction Plans—Alert Level | 4/25/90 | 6/28/93 58 FR34526 | (c)(28)
TABLE II | Emission Reduction Plans—Warning Level | 4/25/90 | 6/28/93 58 FR34526 | (c)(28)
TABLE III | Emission Reduction Plans—Emergency Level | 4/25/90 | 6/28/93 58 FR34526 | (c)(28)
Section 45-11-7 | Air Pollution Emergencies; Contents of Order; Hearings; Appeals | 4/25/90 | 6/28/93 58 FR34526 | (c)(28)
Section 45-11-8 | Inconsistency Between Regulations | 4/25/90 | 6/28/93 58 FR34526 | (c)(28)
[45 CSR] Series 12 Ambient Air Quality Standard for Nitrogen Dioxide
Section 45-12-1 | General | 6/1/00 | 10/7/02 67 FR 62378 | (c)(49)
Section 45-12-2 | Anti-Degradation Policy | 6/1/00 | 10/7/02 67 FR 62378 | (c)(49)
Section 45-12-3 | Definitions | 6/1/00 | 10/7/02 67 FR 62378 | (c)(49)
Section 45-12-4 | Ambient Air Quality Standard | 6/1/00 | 10/7/02 67 FR 62378 | (c)(49)
Section 45-12-5 | Methods of Measurement | 6/1/00 | 10/7/02 67 FR 62378 | (c)(49)
[45 CSR] Series 13 Permits for Construction, Modification, Relocation and Operation of Stationary Sources of Air Pollutants, Notification Requirements, Temporary Permits, General Permits, and Procedures for Evaluation
Section 45-13-1 | General | 6/1/00 | 2/28/03 68 FR 9559 | (c)(52)
Section 45-13-2 | Definitions | 6/1/00 | 2/28/03 68 FR 9559 | (c)(52)
Section 45-13-3 | Reporting Requirements for Stationary Sources | 6/1/00 | 2/28/03 68 FR 9559 | (c)(52)
Section 45-13-4 | Administrative Updates to Existing Permits | 6/1/00 | 2/28/03 68 FR 9559 | (c)(52)
Section 45-13-5 | Permit Application and Reporting Requirements for Construction of and Modifications to Stationary Sources | 6/1/00 | 2/28/03 68 FR 9559 | (c)(52)
Section 45-13-6 | Determination of Compliance of Stationary Sources | 6/1/00 | 2/28/03 68 FR 9559 | (c)(52)
Section 45-13-7 | Modeling | 6/1/00 | 2/28/03 68 FR 9559 | (c)(52)
Section 45-13-8 | Public Review Procedures | 6/1/00 | 2/28/03 68 FR 9559 | (c)(52)
Section 45-13-9 | Public Meetings | 6/1/00 | 2/28/03 68 FR 9559 | (c)(52)
Section 45-13-10 | Permit Transfer, Suspension, Revocation and Responsibility | 6/1/00 | 2/28/03 68 FR 9559 | (c)(52)
Section 45-13-11 | Temporary Construction or Modification Permits | 6/1/00 | 2/28/03 68 FR 9559 | (c)(52)
Section 45-13-12 | Permit Application Fees | 6/1/00 | 2/28/03 68 FR 9559 | (c)(52)
Section 45-13-13 | Inconsistency Between Rules | 6/1/00 | 2/28/03 68 FR 9559 | (c)(52)
Section 45-13-14 | Statutory Air Pollution | 6/1/00 | 2/28/03 68 FR 9559 | (c)(52)
Section 45-13-15 | Hazardous Air Pollutants | 6/1/00 | 2/28/03 68 FR 9559 | (c)(52)
TABLE 45-13A | Potential Emission Rate | 6/1/00 | 2/28/03 68 FR 9559 | (c)(52)
TABLE 45-13B | De Minimus Sources | 6/1/00 | 2/28/03 68 FR 9559 | (c)(52)
[45 CSR] Series 14 Permits for Construction and Major Modification of Major Stationary Sources of Air Pollution for the Prevention of Significant Deterioration
Section 45-14-1 | General | 7/7/93 5/1/95 | 10/22/96 61 FR 54735 | (c)(39), (c)(40)
Section 45-14-2 | Definitions | 7/7/93 5/1/95 | 10/22/96 61 FR 54735 | (c)(39), (c)(40)
Section 45-14-3 | Ambient Air Quality Increments and Ceilings | 7/7/93 5/1/95 | 10/22/96 61 FR 54735 | (c)(39), (c)(40)
Section 45-14-4 | Area Classification | 4/25/90 | 6/28/93 58 FR34526 | (c)(28)
Section 45-14-5 | Prohibition of Dispersion Enhancement Techniques | 5/1/95 | 10/22/96 61 FR 54735 | (c)(40)
Section 45-14-6 | Registration, Report and Permit Requirements for Major Stationary Sources and Major Modifications | 7/7/93 5/1/95 | 10/22/96 61 FR 54735 | (c)(39), (c)(40)
Section 45-14-7 | Requirements Relating to Control Technology | 5/1/95 | 10/22/96 61 FR 54735 | (c)(40)
Section 45-14-8 | Requirements Relating to the Source's Impact on Air Quality | 7/7/93 5/1/95 | 10/22/96 61 FR 54735 | (c)(39), (c)(40)
Section 45-14-9 | Requirements for Air Quality Models | 7/7/93 5/1/95 | 10/22/96 61 FR 54735 | (c)(39), (c)(40)
Section 45-14-10 | Requirements for Air Quality Monitoring | 7/7/93 5/1/95 | 10/22/96 61 FR 54735 | (c)(39), (c)(40)
Section 45-14-11 | Requirements for Additional Impacts Analysis | 4/25/90 | 6/28/93 58 FR34526 | (c)(28)
Section 45-14-12 | Additional Requirements and Variances for Sources Impacting Federal Class I Areas | 7/7/93 5/1/95 | 10/22/96 61 FR 54735 | (c)(39), (c)(40)
Section 45-14-13 | Procedures for Sources Employing Innovative Control Technology | 7/7/93 5/1/95 | 10/22/96 61 FR 54735 | (c)(39), (c)(40)
Section 45-14-14 | Exclusions From Increment Consumption | 7/7/93 5/1/95 | 10/22/96 61 FR 54735 | (c)(39), (c)(40)
Section 45-14-15 | Exemptions From Specific Requirements of This Rule | 7/7/93 5/1/95 | 10/22/96 61 FR 54735 | (c)(39), (c)(40)
Section 45-14-16 | Public Review Procedures | 7/7/93 5/1/95 | 10/22/96 61 FR 54735 | (c)(39), (c)(40)
Section 45-14-17 | Public Meetings | 7/7/93 5/1/95 | 10/22/96 61 FR 54735 | (c)(39), (c)(40)
Section 45-14-18 | Permit Transfer, Cancellation, and Responsibility | 7/7/93 5/1/95 | 10/22/96 61 FR 54735 | (c)(39), (c)(40)
Section 45-14-19 | Disposition of Permits | 7/7/93 5/1/95 | 10/22/96 61 FR 54735 | (c)(39), (c)(40)
Section 45-14-20 | Conflict with Other Permitting Rules | 7/7/93 5/1/95 | 10/22/96 61 FR 54735 | (c)(39), (c)(40)
(Ch. 16-20) Series XIX Requirements for Pre-construction Review, Determination of Emission Offsets for Proposed New or Modified Stationary Sources of Air Pollutants and Emission Trading for Intrasource Pollutants
Section 1 | General | 5/27/83 | 7/2/85 50 FR 27247 | (c)(22)
Section 2 | Definitions | 5/27/83 | 7/2/85 50 FR 27247 | (c)(22)
Section 3 | Applicability | 5/27/83 | 7/2/85 50 FR 27247 | (c)(22)
Section 4 | Conditions for a Permit Approval for Proposed Major Sources That Would Contribute to a Violation of NAAQS | 5/27/83 | 7/2/85 50 FR 27247 | (c)(22)
Section 5 | Conditions for Permit Approval for Sources Locating in Attainment or Unclassifiable Areas That Would Cause a New Violation of a NAAQS | 5/27/83 | 7/2/85 50 FR 27247 | (c)(22)
Section 6 | Exemptions from Certain Conditions | 5/27/83 | 7/2/85 50 FR 27247 | (c)(22)
Section 7 | Baseline for Determining Credit for Emission Offsets | 5/27/83 | 7/2/85 50 FR 27247 | (c)(22)
Section 8 | Location of Offsetting Emissions | 5/27/83 | 7/2/85 50 FR 27247 | (c)(22)
Section 9 | Administrative Procedures for Emission Offset Proposals | 5/27/83 | 7/2/85 50 FR 27247 | (c)(22)
Section 10 | Control of Fugitive Emissions | 5/27/83 | 7/2/85 50 FR 27247 | (c)(22)
Section 11 | Offsetting of Secondary Emissions | 5/27/83 | 7/2/85 50 FR 27247 | (c)(22)
Section 12 | Bubble Concept for Intrasource Pollutants | 5/27/83 | 7/2/85 50 FR 27247 | (c)(22)
Section 13 | Discretionary Decisions Made by the Director | 5/27/83 | 7/2/85 50 FR 27247 | (c)(22)
[45 CSR] Series 20 Good Engineering Practice as Applicable to Stack Heights
Section 45-20-1 | General | 7/14/89 | 4/19/94 59 FR 18489 | (c)(27)
Section 45-20-2 | Definitions | 7/14/89 | 4/19/94 59 FR 18489 | (c)(27)
Section 45-20-3 | Standards | 7/14/89 | 4/19/94 59 FR 18489 | (c)(27)
Section 45-20-4 | Public Review Procedures | 7/14/89 | 4/19/94 59 FR 18489 | (c)(27)
Section 45-20-5 | Inconsistency Between Regulations | 7/14/89 | 4/19/94 59 FR 18489 | (c)(27)
[45 CSR] Series 21 Regulation to Prevent and Control Air Pollution From the Emission of Volatile Organic Compounds
Section 45-21-1 | General | 7/7/93 | 2/1/95 60 FR 6022 | (c)(33)
Section 45-21-2 | Definitions | 7/7/93 | 2/1/95 60 FR 6022 | (c)(33)
Section 45-21-3 | Applicability | 7/7/93 | 2/1/95 60 FR 6022 | (c)(33)
Section 45-21-4 | Compliance Certification, Recordkeeping, and Reporting Procedures for Coating Sources | 7/7/93 | 2/1/95 60 FR 6022 | (c)(33)
Section 45-21-5 | Compliance Certification, Recordkeeping, and Reporting Requirements for Non-Coating Sources | 7/7/93 | 2/1/95 60 FR 6022 | (c)(33)
Section 45-21-6 | Requirements for Sources Complying by Use of Control Devices | 7/7/93 | 2/1/95 60 FR 6022 | (c)(33)
Section 45-21-7 | Circumvention | 7/7/93 | 2/1/95 60 FR 6022 | (c)(33)
Section 45-21-8 | Handling, Storage, and Disposal of Volatile Organic Compounds (VOCs) | 7/7/93 | 2/1/95 60 FR 6022 | (c)(33)
Section 45-21-9 | Compliance Programs, Registration, Variance, Permits, Enforceability | 7/7/93 | 2/1/95 60 FR 6022 | (c)(33)
Section 45-21-11 | Can Coating | 7/7/93 | 2/1/95 60 FR 6022 | (c)(33)
Section 45-21-12 | Coil Coating | 7/7/93 | 2/1/95 60 FR 6022 | (c)(33)
Section 45-21-14 | Fabric Coating | 7/7/93 | 2/1/95 60 FR 6022 | (c)(33)
Section 45-21-15 | Vinyl Coating | 7/7/93 | 2/1/95 60 FR 6022 | (c)(33)
Section 45-21-16 | Coating of Metal Furniture | 7/7/93 | 2/1/95 60 FR 6022 | (c)(33)
Section 45-21-17 | Coating of Large Appliances | 7/7/93 | 2/1/95 60 FR 6022 | (c)(33)
Section 45-21-18 | Coating of Magnet Wire | 7/7/93 | 2/1/95 60 FR 6022 | (c)(33)
Section 45-21-19 | Coating of Miscellaneous Metal Parts | 7/7/93 | 2/1/95 60 FR 6022 | (c)(33)
Section 45-21-21 | Bulk Gasoline Plants | 7/7/93 | 2/1/95 60 FR 6022 | (c)(33)
Section 45-21-22 | Bulk Gasoline Terminals | 7/7/93 | 2/1/95 60 FR 6022 | (c)(33)
Section 45-21-23 | Gasoline Dispensing Facility—Stage I Vapor Recovery | 7/7/93 | 2/1/95 60 FR 6022 | (c)(33)
Section 45-21-24 | Leaks From Gasoline Tank Trucks | 7/7/93 | 2/1/95 60 FR 6022 | (c)(33)
Section 45-21-25 | Petroleum Refinery Sources | 7/7/93 | 2/1/95 60 FR 6022 | (c)(33)
Section 45-21-26 | Leaks From Petroleum Refinery Equipment | 7/7/93 | 2/1/95 60 FR 6022 | (c)(33)
Section 45-21-27 | Petroleum Liquid Storage in External Floating Roof Tanks | 7/7/93 | 2/1/95 60 FR 6022 | (c)(33)
Section 45-21-28 | Petroleum Liquid Storage in Fixed Roof Tanks | 7/7/93 | 2/1/95 60 FR 6022 | (c)(33)
Section 45-21-29 | Leaks From Natural Gas/Gasoline Processing Equipment | 7/7/93 | 2/1/95 60 FR 6022 | (c)(33)
Section 45-21-31 | Cutback and Emulsified Asphalt | 7/7/93 | 2/1/95 60 FR 6022 | (c)(33)
Section 45-21-39 | Air Oxidation Processes in the Synthetic Organic Chemical Manufacturing Industry | 7/7/93 | 2/1/95 60 FR 6022 | (c)(33)
Section 45-21-41 | Test Methods and Compliance Procedures: General Provisions | 7/7/93 | 2/1/95 60 FR 6022 | (c)(33)
Section 45-21-42 | Test Methods and Compliance Procedures: Determining the Volatile Organic Compound (VOC) Content of Coatings and Inks | 7/7/93 | 2/1/95 60 FR 6022 | (c)(33)
Section 45-21-43 | Test Methods and Compliance Procedures: Alternative Compliance Methods for Surface Coating | 7/7/93 | 2/1/95 60 FR 6022 | (c)(33)
Section 45-21-44 | Test Methods and Compliance Procedures: Emission Capture and Destruction or Removal Efficiency and Monitoring Requirements | 7/7/93 | 2/1/95 60 FR 6022 | (c)(33)
Section 45-21-45 | Test Methods and Compliance Procedures: Determining the Destruction or Removal Efficiency of a Control Device | 7/7/93 | 2/1/95 60 FR 6022 | (c)(33)
Section 45-21-46 | Test Methods and Compliance Procedures: Leak Detection Methods for Volatile Organic Compounds (VOCs). | 7/7/93 | 2/1/95 60 FR 6022 | (c)(33)
Section 45-21-47 | Performance Specifications for Continuous Emissions Monitoring of Total Hydrocarbons | 7/7/93 | 2/1/95 60 FR 6022 | (c)(33)
Section 45-21-48 | Quality Control Procedures for Continuous Emission Monitoring Systems (CEMS) | 7/7/93 | 2/1/95 60 FR 6022 | (c)(33)
Appendix A | VOC Capture Efficiency | 7/7/93 | 2/1/95 60 FR 6022 | (c)(33)
[45 CSR] Series 26 NOX Budget Training Program as a Means of Control and Reduction of Nitrogen Oxides from Electrical Generating Units
Section 45-26-1 | General | 5/1/02 | 5/10/02 67 FR 31733 | (c)(46)
Section 45-26-2 | Definitions | 5/1/02 | 5/10/02 67 FR 31733 | (c)(46)
Section 45-26-3 | Measurements, Abbreviations and Acronyms | 5/1/02 | 5/10/02 67 FR 31733 | (c)(46)
Section 45-26-4 | NOX Budget Trading Program Applicability | 5/1/02 | 5/10/02 67 FR 31733 | (c)(46)
Section 45-26-5 | Retired Unit Exemption | 5/1/02 | 5/10/02 67 FR 31733 | (c)(46)
Section 45-26-6 | NOX Budget Trading Program Standard Requirements | 5/1/02 | 5/10/02 67 FR 31733 | (c)(46)
Section 45-26-7 | Computation of Time | 5/1/02 | 5/10/02 67 FR 31733 | (c)(46)
Section 45-26-10 | Authorization and Responsibilities of the NOX Authorized Account Representative | 5/1/02 | 5/10/02 67 FR 31733 | (c)(46)
Section 45-26-11 | Alternate NOX Authorized Account Representative | 5/1/02 | 5/10/02 67 FR 31733 | (c)(46)
Section 45-26-12 | Changing the NOX Authorized Account Representative and the Alternate NOX Authorized Account Representative; Changes in Owners and Operators | 5/1/02 | 5/10/02 67 FR 31733 | (c)(46)
Section 45-26-13 | Account Certificate of Representation | 5/1/02 | 5/10/02 67 FR 31733 | (c)(46)
Section 45-26-14 | Objections Concerning the NOX Authorized Account Representative | 5/1/02 | 5/10/02 67 FR 31733 | (c)(46)
Section 45-26-20 | General NOX Budget Trading Program Permit Requirements | 5/1/02 | 5/10/02 67 FR 31733 | (c)(46)
Section 45-26-21 | NOX Budget Permit Applications | 5/1/02 | 5/10/02 67 FR 31733 | (c)(46)
Section 45-26-22 | Information Requirements for NOX Budget Permit Applications | 5/1/02 | 5/10/02 67 FR 31733 | (c)(46)
Section 45-26-23 | NOX Budget Permit Contents | 5/1/02 | 5/10/02 67 FR 31733 | (c)(46)
Section 45-26-24 | NOX Budget Permit Revisions | 5/1/02 | 5/10/02 67 FR 31733 | (c)(46)
Section 45-26-30 | Compliance Certification Report | 5/1/02 | 5/10/02 67 FR 31733 | (c)(46)
Section 45-26-31 | Secretary's and Administrator's Action on Compliance Certifications | 5/1/02 | 5/10/02 67 FR 31733 | (c)(46)
Section 45-26-40 | State NOX Trading Program Budget | 5/1/02 | 5/10/02 67 FR 31733 | (c)(46)
Section 45-26-41 | Timing Requirements for State NOX Allowance Allocations | 5/1/02 | 5/10/02 67 FR 31733 | (c)(46)
Section 45-26-42 | State NOX Allowance Allocations | 5/1/02 | 5/10/02 67 FR 31733 | (c)(46)
Section 45-26-43 | Compliance Supplement Pool | 5/1/02 | 5/10/02 67 FR 31733 | (c)(46)
Section 45-26-50 | NOX Allowance Tracking System Accounts | 5/1/02 | 5/10/02 67 FR 31733 | (c)(46)
Section 45-26-51 | Establishment of Accounts | 5/1/02 | 5/10/02 67 FR 31733 | (c)(46)
Section 45-26-52 | NOX Allowance Tracking System Responsibilities of NOX Authorized Account Representative | 5/1/02 | 5/10/02 67 FR 31733 | (c)(46)
Section 45-26-53 | Recordation of NOX Allowance Allocations | 5/1/02 | 5/10/02 67 FR 31733 | (c)(46)
Section 45-26-54 | Compliance | 5/1/02 | 5/10/02 67 FR 31733 | (c)(46)
Section 45-26-55 | NOX Allowance Banking | 5/1/02 | 5/10/02 67 FR 31733 | (c)(46)
Section 45-26-56 | Account Error | 5/1/02 | 5/10/02 67 FR 31733 | (c)(46)
Section 45-26-57 | Closing of General Accounts | 5/1/02 | 5/10/02 67 FR 31733 | (c)(46)
Section 45-26-60 | Submission of NOX Allowance Transfers | 5/1/02 | 5/10/02 67 FR 31733 | (c)(46)
Section 45-26-61 | Allowance Transfer Recordation | 5/1/02 | 5/10/02 67 FR 31733 | (c)(46)
Section 45-26-62 | Notification | 5/1/02 | 5/10/02 67 FR 31733 | (c)(46)
Section 45-26-70 | General Monitoring Requirements | 5/1/02 | 5/10/02 67 FR 31733 | (c)(46)
Section 45-26-71 | Initial Certification and Recertification Procedures | 5/1/02 | 5/10/02 67 FR 31733 | (c)(46)
Section 45-26-72 | Out of Control Periods | 5/1/02 | 5/10/02 67 FR 31733 | (c)(46)
Section 45-26-73 | Notifications | 5/1/02 | 5/10/02 67 FR 31733 | (c)(46)
Section 45-26-74 | Recordkeeping and Reporting | 5/1/02 | 5/10/02 67 FR 31733 | (c)(46)
Section 45-26-75 | Petitions | 5/1/02 | 5/10/02 67 FR 31733 | (c)(46)
Section 45-26-76 | Additional Requirements to Provide Heat Input Data | 5/1/02 | 5/10/02 67 FR 31733 | (c)(46)
[45 CSR] Series 29 Rule Requiring the Submission of Emission Statements for Volatile Organic Compound Emissions and Oxides of Nitrogen Emissions
Section 45-29-1 | General | 7/7/93 | 8/4/95 60 FR 39855 | (c)(34)
Section 45-29-2 | Definitions | 7/7/93 | 8/4/95 60 FR 39855 | (c)(34)
Section 45-29-3 | Applicability | 7/7/93 | 8/4/95 60 FR 39855 | (c)(34)
Section 45-29-4 | Compliance Schedule | 7/7/93 | 8/4/95 60 FR 39855 | (c)(34)
Section 45-29-5 | Emission Statement Requirements | 7/7/93 | 8/4/95 60 FR 39855 | (c)(34)
Section 45-29-6 | Enforceability | 7/7/93 | 8/4/95 60 FR 39855 | (c)(34)
Section 45-29-7 | Severability | 7/7/93 | 8/4/95 60 FR 39855 | (c)(34)
[45 CSR] Series 35 Requirements for Determining Conformity of General Federal Actions to Applicable Air Quality Implementation Plans (General Conformity)
Section 45-35-1 | General | 5/1/95 | 9/5/95 60 FR 46029 | (c)(37)
Section 45-35-2 | Definitions | 5/1/95 | 9/5/95 60 FR 46029 | (c)(37)
Section 45-35-3 | Adoption of Criteria, Procedures and Requirements | 5/1/95 | 9/5/95 60 FR 46029 | (c)(37)
Section 45-35-4 | Requirements | 5/1/95 | 9/5/95 60 FR 46029 | (c)(37)

(d) EPA approved state source-specific requirements.

EPA-Approved Source Specific Requirements
Source name | Permit/order or registration number | State effective date | EPA approval date | Additional explanation/citation at 40 CFR 52.2560
Mountaineer Carbon Co. | Consent Order | 7/2/82 | 9/1/82 47 FR 38532 | (c)(18)
National Steel Corp.—Weirton Steel Division | Consent Order (Bubble) | 7/6/82 | 12/9/82 47 FR 55396 | (c)(19)
Columbia Gas Transmission Corporation—Lost River Station | Consent Order | 9/12/90 | 4/24/91 56 FR 18733 | (c)(24)
Wheeling-Pittsburgh Steel Corp | Consent Order CO-SIP-91-29 | 11/14/91 | 7/25/94 59 FR 37696 | (c)(26)
Standard Lafarge | Consent Order CO-SIP-91-30 | 11/14/91 | 7/25/94 59 FR 37696 | (c)(26)
Follansbee Steel Corp | Consent Order CO-SIP-91-31 | 11/14/91 | 7/25/94 59 FR 37696 | (c)(26)
Koppers Industries, Inc | Consent Order CO-SIP-91-32 | 11/14/91 | 7/25/94 59 FR 37696 | (c)(26)
International Mill Service, Inc | Consent Order CO-SIP-91-33 | 11/14/91 | 7/25/94 59 FR 37696 | (c)(26)
Starvaggi Industries, Inc | Consent Order CO-SIP-91-34 | 11/14/91 | 7/25/94 59 FR 37696 | (c)(26)
Quaker State Corporation | Consent Order CO-SIP-95-1 | 1/9/95 | 11/27/96 61 FR 60191 | (c)(35)
Weirton Steel Corporation | Consent Order CO-SIP-95-2 | 1/9/95 | 11/27/96 61 FR 60191 | (c)(35)
PPG Industries, Inc | Consent Order CO-SIP-2000-1 | 1/25/00 | 8/2/00 65 FR 47339 | (c)(44)(i)(B)(1)
Bayer Corporation | Consent Order CO-SIP-2000-2 | 1/26/00 | 8/2/00 65 FR 47339 | (c)(44)(i)(B)(2)
Columbian Chemicals Company | Consent Order CO-SIP-2000-3 | 1/31/00 | 8/2/00 65 FR 47339 | (c)(44)(i)(B)(3)
PPG Industries, Inc | Consent Order CO-SIP-C-2003-27 | 7/29/03 | 4/28/04 69 FR 23110 | (c)(58)
Wheeling-Pittsburgh Steel Corporation | Operating Permit R13-1939A | 8/19/03 | 05/05/04 69 FR 24986 | (c)(59)(i)(B)(1)
Weirton Steel Corporation | Consent Order CO-SIP-C-2003-28 | 8/4/03 | 05/05/04 69 FR 24986 | (c)(59)(i)(B)(2)

(e) EPA-approved nonregulatory and quasi-regulatory material.

Name of non-regulatory SIP revision | Applicable geographic area | State submittal date | EPA approval date | Additional explanation
PM-10 Attainment Plan | Folansbee Area | 11/15/91 | 7/25/94 59 FR 37688 | 52.2522(f); renumbered as (d) at 60 FR 33925.
|  | 11/22/95 | 11/15/96 61 FR 58481 | 52.2522(g).
Sulfur Dioxide Attainment Demonstration | City of Weirton Butler and Clay Magisterial Districts (Brooke & Hancock Counties) | 12/29/03 | 05/05/04 69 FR 24986 | 52.2525(b).
1990 Base Year Emissions Inventory-VOC, CO, NOX | Greenbrier County | 12/22/92 | 8/4/95 60 FR 39857 | 52.2531.
Small Business stationary source technical and environmental compliance assistance program | Statewide | 1/13/93 | 9/15/93 58 FR 48309 | 52.2560.
Lead (Pb) SIP | Statewide | 6/13/80 | 10/29/81 46 FR 53413 | 52.2565(c)(15).
Air Quality Monitoring Network | Statewide | 11/4/83 | 4/27/84 49 FR 18094 | 52.2565(c)(21).
Ozone Maintenance Plan, emissions inventory & contingency measures | Huntington Area (Cabell & Wayne Counties) | 8/10/94 | 12/21/94 59 FR 65719 | 52.2565(c)(30).
Ozone Maintenance Plan, emissions inventory & contingency measures | Parkersburg Area (Wood County) | 8/10/94 | 9/6/94 59 FR 45978 | 52.2565(c)(31).
Ozone Maintenance Plan, emissions inventory & contingency measures | Charleston Area (Kanahwa & Putnam Counties) | 8/10/94 | 9/6/94 59 FR 45985 | 52.2565(c)(32).
Sulfur Dioxide Plan | Grant Magisterial District (Hancock County) | 2/17/95 | 11/27/96 61 FR 60253 | 52.2565(c)(35).
Ozone Maintenance Plan & contingency measures | Greenbrier County | 9/9/94 | 8/4/95 60 FR 39857 | 52.2565(c)(36).
Sulfur Dioxide Plan | Marshall County | 2/17/00 | 8/2/00 65 FR 47339 | 52.2565(c)(44).
Ozone Maintenance Plan—amendments | Huntington Area (Cabell & Wayne Counties) | 8/10/94 | 2/8/02 67 FR 5953 | 52.2565(c)(45).

[FR Doc. 05-2518 Filed 2-9-05; 8:45 am]

BILLING CODE 6560-50-P